DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Individual Fishing Quotas for Pacific Halibut and Sablefish in the Alaska Fisheries.

OMB Control Number: 0648-0272.

Form Number(s): NA.

Type of Request: Regular submission (revision and extension of a current information collection).

Number of Respondents: 1,686.

Average Hours per Response: Application for a non-profit corporation to be designated as a Community Quota Entity (CQE), 200 hours; application for eligibility to receive quota share/individual fishing quota (QS/IFQ), identification of shareholder interest, application for transfer of QS/IFQ, 2 hours; application for hired master permit, application for registered buyer permit, designated beneficiary form, 30 minutes; prior notice of landing, 12 minutes; landing report, 18 minutes, administrative waiver, 15 minutes, dockside sales receipt, 6 minutes.

Burden Hours: 9,946.

Needs and Uses: This request is for revision and extension of a current information collection.

The Pacific Halibut and Sablefish Individual Fishing Quota (IFQ) Program was developed to reduce fishing capacity that had increased during years of management as an open access fishery, while maintaining the social and economic character of the fixed gear fishery that is relied on as a source of revenue for coastal communities in Alaska. The Halibut and Sablefish IFQ Program provides economic stability for the commercial hook-and-line fishery while reducing many of the conservation and management problems commonly associated with open access. The IFQ Program for sablefish and Pacific halibut fixed gear provides each fisherman a catch quota that can be used any time during the open season. Individual shares are intended to allow fishermen to set their own pace and adjust their fishing effort. The IFQ Program is intended to reduce the premium that was traditionally placed on speed, allowing fishermen to pay more attention to efficiency and product quality. The IFQ Program consists of three parts: IFQ halibut and sablefish, Western Alaska Community Development Quota (CDQ) halibut, and Gulf of Alaska (GOA) IFQ community quota share.

Program changes/revisions consist of removal of duplicative forms/information collections and changes to notarization requirements (removing for some information collections and adding for one).

Affected Public: Business or other for-profit organizations; not-for-profit institutions.

Frequency: Annually and on occasion.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: October 12, 2011.
Gwellnar Banks,
Management Analyst, Office of the Chief Information Officer.

[FR Doc. 2011-26851 Filed 10-17-11; 8:45 am]

BILLING CODE 3510-22-P